DEPARTMENT OF TRANSPORTATION

National Highway Traffic Safety Administration

49 CFR Part 571

[Docket No. NHTSA-2003-17140]

RIN 2127-AI88

Federal Motor Vehicle Safety Standards; Child Restraint Systems

Correction

In rule document 04-5168 beginning on page 10928 in the issue of Tuesday, March 9, 2004 make the following correction:

§571.213 [Corrected]

On page 10935, the second table for §571.213 should read as follows:

Table for S5.3.2
Type of add-on child restraint system | Means of installation: Type 1 seat belt assembly | Means of installation: Type 1 seat belt assembly plus a tether anchorage, if needed | Means of installation: Child restraint anchorage system (effective September 1, 2002) | Means of installation: Type II seat belt assembly | Means of installation: Seat back mount
Harnesses labeled per S5.3.1(b)(1) through S5.3.1(b)(3) and Figure 12 |  |  |  |  | X
Other harnesses |  | X
Car beds | X
Rear-facing restraints | X |  | X
Belt-positioning seats |  |  |  | X |
All other child restraints | X | X | X

[FR Doc. C4-5168 Filed 3-23-04; 8:45 am]

BILLING CODE 1505-01-D